DEPARTMENT OF COMMERCE

Foreign-Trade Zones Board

[Docket 49-2005]

Foreign-Trade Zone 22 -- Chicago, Illinois, Area, Application for Expansion, Correction

The Federal Register notice (70 FR 61429-61430, 10/24/05) describing the request submitted by the Illinois International Port District, grantee of FTZ 22, requesting authority to expand its zone in the Chicago area, is corrected as follows:

Paragraph 8 should read “A copy of the application and accompanying exhibits will be available during this time for public inspection at the address Number 1 listed above, and at the U.S. Department of Commerce Export Assistance Center, 200 W. Adams Street, Suite 2450, Chicago, IL 60606.”

Dated: November 14, 2005.
Dennis Puccinelli,
Executive Secretary.

[FR Doc. 05-23009 Filed 11-18-05; 8:45 am]

BILLING CODE 3510-DS-S